DEPARTMENT OF HEALTH AND HUMAN SERVICES

National Institutes of Health

National Cancer Institute; Amended Notice of Meeting

Notice is hereby given of a change in the meeting of the joint meeting of the National Cancer Advisory Board and NCI Board of Scientific Advisors, June 19, 2017, 5:30 p.m. to June 21, 2017, 5:00 p.m., National Institutes of Health, Building 31, 31 Center Drive, C Wing, 6th Floor, Conference Room 10, Bethesda, MD, 20892 which was published in the Federal Register on May 24, 2017, 82 FR 23816.

The meeting notice is being amended to change the start time of the joint meeting of the National Cancer Advisory Board and NCI Board of Scientific Advisors meeting on June 21, 2017 to 9:00 a.m. Additionally, the BSA Ad Hoc Subcommittee on HIV and AIDS Malignancy meeting on June 21, 2017 will now be held in Conference Room 7 at National Institutes of Health, Building 31, 31 Center Drive, Bethesda, MD 20892 and will adjourn at 7:00 p.m.

Dated: June 12, 2017.
Melanie J. Pantoja,
Program Analyst, Office of Federal Advisory Committee Policy.

[FR Doc. 2017-12386 Filed 6-14-17; 8:45 am]

BILLING CODE 4140-01-P